DEPARTMENT OF HEALTH AND HUMAN SERVICES

Announcement of Requirements and Registration for “Data Supporting Decisions Challenge”

Authority: 15 U.S.C. 3719.

AGENCY: Office of the National Coordinator for Health Information Technology, HHS.

DATES: Award Approving Official: Karen DeSalvo, National Coordinator for Health Information Technology.

ACTION: Notice.

SUMMARY: CMS data made publicly available for the first time in recent months has great potential to further the nation's understanding of health care spending and physician practice patterns. Because this data exists in raw forms that require interpretation and context, to make an impact on the average consumer it must be presented in ways that they can understand. Only then can consumers use the data to help make health choices that are the most appropriate for their specific, individual needs. This challenge seeks the creation of interactive data visualization tools that communicate complex data from multiple sources in ways that support consumer decision making for value based health care.

The statutory authority for this challenge competition is Section 105 of the America COMPETES Reauthorization Act of 2010 (Pub. L. 111-358).

• Phase I submission period: April 14-April 24, 2014

• Phase I finalist announcement: May 1, 2014

• Phase II development period: May 1-June 2, 2014

• Phase II live demo at Datapalooza: June 2, 2014

• Winners announced at Datapalooza: June 3, 2014

FOR FURTHER INFORMATION CONTACT: Adam Wong, 202-720-2866.

SUPPLEMENTARY INFORMATION:

Subject of Challenge Competition: These visualization tools should be created to be used by consumers, for the purpose of assisting in active decision-making processes, especially involving potentially expensive decisions such as referrals or whether to move forward with an intervention or procedure. The visualizations should be customizable by the user; for example, patients should be able to enter their own health and/or claims information, such as demographic features or clinical attributes, to support their decision-making.

We are most interested in visualizations that use data about medical services and procedures physicians and other healthcare professionals provide in office and in facility settings, and payments and charges for these services, as they relate to helping consumer decision-making. Visualizations can help illuminate not just the most common medical procedures, but also the thousands of procedures and services that occur less frequently yet put together make up a significant percentage of total procedures performed. Detailed geographic information system (GIS) data can enhance analysis of physician payment and disbursement data from the national down to the hyper-local level. The combination of data from multiple sources, and quality measure data in particular, can be used to create tools providing deep insight into geographic variations in procedure costs, regional specializations in procedures, and many other uses yet to be uncovered.

Value based healthcare means both the cost and quality of services, so participants are encouraged to explore a variety of data sets; http://data.cms.gov and http://healthdata.gov are just two of many. Participants may also use externally-developed technical tools such as the Bloom API, which updates weekly with CMS data.

The challenge is broken into two phases:

—In Phase I, participants will submit a proposal of no more than 750 words describing the use case for their visualization(s), how their approach will address the use case, and the data sources they intend to use. Participants are allowed to use privately-held data exclusive to their own organizations. Proposals may include wireframes, sketches, or other low fidelity designs to support the visualization proposal. Participants must also indicate whether or not they expect to be able to attend Datapalooza. A review panel will select up to ten finalists, which will advance to Phase II.

When developing the use case, participants should consider what type of patient would be most affected by decisions based on value, and for what specific type of decision. For example, are they in an ACO or other capitated system? Does the patient have a healthcare savings account or high deductible plan? Is the patient undergoing a specific type of intervention, such as a total knee replacement?

—In Phase II, the finalists will build out their visualization tools to the most complete extent possible. If finalists choose to create live or static visualizations embeddable for use on the web, mobile, or print, they should be sure to include their name or organization and cite data sources used. Finalists are also free to publish an API for their visualization so that others can build on and extend the work. At Datapalooza, each finalist will demo live for the review panel, and the winner will be announced on the main stage at the end of the conference.

Eligibility Rules for Participating in the Competition: To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants: To register for this Challenge, participants can access http://www.challenge.gov and search for “Data Supporting Decisions Challenge.”

Prize:

• Total: $35,000 in prizes

• First Place: $20,000

• Second Place: $10,000

• Third Place: $5,000

Payment of the Prize: Prize will be paid by contractor.

Basis upon Which Winner Will Be Selected: The review panel will make selections based upon the following criteria:

Phase I (Proposal)

• Strength of use case for consumers

• How well solution will address use case

• Proposed use of data

• Quality of data sources

Phase II (Visualization Tools)

• Utility for consumers

• Interactivity and customization by user

• Use of data sources

• Visual appeal

In order for an entry to be eligible to win this Challenge, it must meet the following requirements:

1. Acceptable platforms—The tool must be designed for use with existing web, mobile web, electronic health record, or other platform.

2. Section 508 Compliance—Contestants must acknowledge that they understand that, as a pre-requisite to any subsequent acquisition by FAR contract or other method, they are required to make their proposed solution compliant with Section 508 accessibility and usability requirements at their own expense. Any electronic information technology that is ultimately obtained by HHS for its use, development, or maintenance must meet Section 508 accessibility and usability standards. Past experience has demonstrated that it can be costly for solution-providers to “retrofit” solutions if remediation is later needed. The HHS Section 508 Evaluation Product Assessment Template, available at http://www.hhs.gov/od/vendors/index.html, provides a useful roadmap for developers to review. It is a simple, web-based checklist utilized by HHS officials to allow vendors to document how their products do or do not meet the various Section 508 requirements.

3. No HHS or ONC logo—The app must not use HHS' or ONC's logos or official seals in the Submission, and must not claim endorsement.

4. Functionality/Accuracy—A Submission may be disqualified if it fails to function as expressed in the description provided by the user, or if it provides inaccurate or incomplete information.

5. Security—Submissions must be free of malware. Contestant agrees that ONC may conduct testing on the app to determine whether malware or other security threats may be present. ONC may disqualify the Submission if, in ONC's judgment, the app may damage government or others' equipment or operating environment.

Additional Information: General Conditions: ONC reserves the right to cancel, suspend, and/or modify the Contest, or any part of it, for any reason, at ONC's sole discretion.

Intellectual Property:

• Each entrant retains title and full ownership in and to their submission. Entrants expressly reserve all intellectual property rights not expressly granted under the challenge agreement.

• By participating in the challenge, each entrant hereby irrevocably grants to Sponsor and Administrator a limited, non-exclusive, royalty-free, worldwide license and right to reproduce, publically perform, publically display, and use the Submission to the extent necessary to administer the challenge, and to publically perform and publically display the Submission, including, without limitation, for advertising and promotional purposes relating to the challenge.

Dated: April 3, 2014.
Karen DeSalvo,
National Coordinator for Health Information Technology.

[FR Doc. 2014-07985 Filed 4-9-14; 8:45 am]

BILLING CODE 4150-45-P